GENERAL SERVICES ADMINISTRATION

Notice of Intent To Prepare an Environmental Impact Statement (EIS) for the Sale of Plum Island, NY

AGENCY: Office of Real Property Utilization & Disposal; General Services Administration.

ACTION: Notice.

SUMMARY: Pursuant to the requirements of the National Environmental Policy Act (NEPA) of 1969, and the President's Council on Environmental Quality Regulations (40 CFR 1500-1508), as implemented by the U.S. General Services Administration (GSA) Order PBS P 1095.4C, GSA, as the operational Joint Lead Agency, announces its Notice of Intent (NOI) to prepare an EIS for the anticipated sale of Plum Island, New York and an ancillary support facility at Orient Point, New York. The US Department of Homeland Security (DHS) will act as a Joint Lead Agency in ongoing consultation with GSA for the NEPA and associated regulatory compliance activities.

ADDRESSES: Written comments may be sent to: Mr. Phil Youngberg, Environmental Manager c/o Mr. John Dugan, General Services Administration (GSA), 10 Causeway Street, Room 925, Boston, MA 02222. All comments received by GSA in response to the Plum Island NEPA process, including commenter's name and state of residence, will be public information and may be released by GSA.

FOR FURTHER INFORMATION CONTACT: Mr. Phil Youngberg via FAX at 617-565-5720 or e-mail: phil.youngberg@gsa.gov.

SUPPLEMENTARY INFORMATION: Background: Plum Island is an 840-acre island located approximately 1.5 miles off the northeast tip of Orient Point, Long Island, New York. DHS, in cooperation with the U.S. Department of Agriculture (USDA), operates the Plum Island Animal Disease Center (PIADC) on the island. Plum Island is formerly the home of the U.S. Army's Fort Terry and was transferred to the USDA in 1954 to establish a research facility for foot-and-mouth disease. In 2003, Plum Island was transferred to DHS. PIADC is comprised of buildings, industrial facilities and equipment, roadways, utilities, specialized facilities, easements, and rights of way. Additional assets on Plum Island include natural undeveloped land, the Plum Island Lighthouse constructed in 1869, and buildings and structures associated with the former Fort Terry. DHS also owns and operates transportation assets and a 9.5-acre facility to support PIADC at Orient Point, New York which includes buildings, utilities, and ferry docking facilities.

Statutory Authority: The purpose of this EIS is to examine the effects associated with the anticipated sale of Plum Island, New York and its support facility at Orient Point, New York including all real and related personal property and transportation assets (the “Property”). The need for this proposed action is mandated in Section 540 of the Consolidated Security, Disaster Assistance, and Continuing Appropriations Act of 2009; United States Public Law 110-329 (the “Act”), which directs the Secretary of the DHS to liquidate the Plum Island asset by directing the Administrator of the General Services to sell through public sale all real and related personal property and transportation assets which support Plum Island operations, subject to such terms and conditions as necessary to protect government interests and meet program requirements. The Act mandates the sale as a result of the determination by DHS to construct and operate a new National Bio and Agro-Defense Facility (NBAF) in Manhattan, Kansas and move its operations from the PIADC to the NBAF (Record of Decision dated 01/16/2009)

Scoping and Request for Comments: The EIS will address the potential impacts to the environment of two alternatives: sale of the Property (the “Action Alternative”), and continued Federal ownership (the “No-Action Alternative”). The Action Alternative will be further refined into a series of reasonably foreseeable land use options. Because the federal government has no authority to regulate future land uses, a precise statement of the specific land use-related environmental and socioeconomic effects that could result from reuse would be largely speculative. In response to the lack of certainty concerning future reuse of the Property, the EIS will identify reasonable land use options that could result upon the sale of the Property. When the Property leaves federal ownership, proposed uses would be subject to local and state environmental and land use regulation.

The primary purpose of the scoping process is for the public to assist the GSA and DHS in developing the EIS by identifying important issues and alternatives related to the sale of the Property. Scoping meetings in Southold, New York and Old Saybrook, Connecticut will allocate time for presentations by the GSA and DHS, followed by an opportunity for the public to comment. Land use and development scenarios will be developed with input from the local community through the scoping process. It is anticipated that these public scoping meetings will be held in the spring of 2010. GSA will provide public notice of these and all subsequent public meetings in local newspapers approximately two weeks prior to the event.

After the scoping is completed, a Draft EIS will be published that identifies and evaluates potential land use options developed to assess impacts of the Action Alternative. The Draft EIS will identify potentially significant direct, indirect, and cumulative impacts on historical and biological resources, land use, air quality, water quality, water resources, and socioeconomics, as well as other environmental issues that could occur as a result of the Action Alternative. For potentially significant impacts, the EIS may identify avoidance, minimization, or mitigation measures to reduce these impacts, where feasible. After the Draft EIS is issued, there will be a 45-day comment period. GSA will hold public meetings in Southold, New York and Old Saybrook, Connecticut during the comment period to solicit input from the public. GSA anticipates this comment period will occur in summer 2010. After the Draft EIS, GSA will issue a Final EIS.

Reasonable Accommodations: Persons needing reasonable accommodations in order to attend and participate in public meetings should contact John Dugan, General Services Administration Property Utilization & Disposal Division, 10 Causeway Street, Room 925, Boston, MA 02222 or e-mail john.dugan@gsa.gov. In order to allow sufficient time to process requests, please call no later than one week before the public meeting. Information regarding this proposed action is available in alternative formats upon request.

Dated: March 9, 2010.
John L. Dugan,
Realty Specialist, 1PZ, U.S. General Services Administration.

[FR Doc. 2010-5833 Filed 3-17-10; 8:45 am]

BILLING CODE P